DEPARTMENT OF THE INTERIOR

Office of the Secretary

Final Report and Recommendations of the Working Group on the Endangered Species Act and Indian Water Rights

AGENCY: Office of the Secretary, Interior.

ACTION: Notice of availability and request for comments.

SUMMARY: The Department of the Interior is making available to the public and seeking comments on the Final Report and Recommendations of the Working Group on the Endangered Species Act (ESA) and Indian Water Rights. This Working Group of five agency employees within the Department was appointed in 1997 to look at implementation of the ESA in relation to the exercise of Indian water rights in the West.

DATES: Comments on the Final Report and Recommendations should be submitted by October 4, 2000.

ADDRESSES: Comments should be submitted to S. Elizabeth Birnbaum, Special Assistant to the Solicitor, U.S. Department of the Interior, 1849 C Street, NW, Room 6352, Washington, DC 20240.

FOR FURTHER INFORMATION CONTACT: S. Elizabeth Birnbaum at (202) 208-4423 or Timothy A. Vollmann at (505) 346-2700.

SUPPLEMENTARY INFORMATION: In 1997 the Secretary of the Interior asked the Department's Solicitor to put together a Working Group, chaired by Southwest Regional Solicitor Tim Vollmann, to examine the issue of the implementation of the ESA in relation to the exercise of Indian water rights in the West, and evaluate the process and criteria for the development of environmental baselines pursuant to section 7 of the ESA and existing regulations. The Working Group was also asked to prepare a case study of this issue in the upper Colorado River Basin. Beginning in August 1999, a draft of the Working Group's Report and Recommendations and the draft case study were released to Indian tribes, state officials, and members of the public, and comments were solicited. The Working Group has now completed its Final Report and Recommendations and submitted them to the Secretary.

The Department is seeking public comment on this Final Report and Recommendations. The case study on the upper Colorado River Basin is an appendix to the Report. A 90-day period is established for the transmittal of written comments to the above address. No action will be taken to implement any of the Recommendations of the Working Group until all comments have been received and analyzed.

Copies of the Final Report and Recommendations are being mailed to western Indian tribes, State Attorneys General, and the heads of western State water resource departments, in addition to all persons who submitted written comments on the Working Group's draft Report and Recommendations. Additional copies may be requested from S. Elizabeth Birnbaum, Special Assistant to the Solicitor, U.S. Department of the Interior, 1849 C Street, NW, Room 6352, Washington, DC 20240. These documents have also been made available on the U.S. Department of the Interior website at http://www.doi.gov/feature/es_wr/index1.html.

John D. Leshy,
Solicitor.

[FR Doc. 00-16986 Filed 7-5-00; 8:45 am]

BILLING CODE 4310-10-M